DEPARTMENT OF TRANSPORTATION

Pipeline and Hazardous Materials Safety Administration

[Docket No. PHMSA-2018-0024; Notice No. 2018-07]

Hazardous Materials Safety: International Standards on the Transport of Dangerous Goods

AGENCY: Pipeline and Hazardous Materials Safety Administration (PHMSA), Department of Transportation (DOT).

ACTION: Notice of public meetings.

SUMMARY: On Tuesday, June 12, 2018, PHMSA will host two public meetings. The first meeting—led by PHMSA—will solicit public input on current proposals and discuss potential new work items for inclusion in the agenda of the 53rd session of the United Nations Sub-Committee of Experts on the Transport of Dangerous Goods (UNSCOE TDG). The second meeting—led by the Occupational Safety and Health Administration (OSHA)—will discuss proposals in preparation for the 35th session of the United Nations Sub-Committee of Experts on the Globally Harmonized System of Classification and Labelling of Chemicals (UNSCEGHS).

DATES: Both public meetings will take place on Tuesday, June 12, 2018.

PHMSA Public Meeting: 9 a.m. to 12 p.m. EDT

OSHA Public Meeting: 1 p.m. to 4 p.m. EDT

ADDRESSES: Both public meetings will take place at DOT Headquarters, West Building, Oklahoma City Conference Room, 1200 New Jersey Avenue SE, Washington, DC 20590-0001.

FOR FURTHER INFORMATION CONTACT: Mr. Steven Webb or Mr. Aaron Wiener, Office of Hazardous Materials Safety, Pipeline and Hazardous Materials Safety Administration, 1200 New Jersey Avenue SE, Washington, DC 20590, (202) 366-8553.

SUPPLEMENTARY INFORMATION:

Advanced Meeting Registration: DOT requests that attendees pre-register for these meetings by completing the form at https://www.surveymonkey.com/r/LQQFCHS. Attendees may use the same form to pre-register for both meetings. Failure to pre-register may delay your access into the DOT Headquarters building. Additionally, if you are attending in person, arrive early to allow time for security checks necessary to access the building.

Conference call-in and “Skype meeting” capability will be provided for both meetings. Specific information on such access will be posted when available at https://www.phmsa.dot.gov/international-program/international-program-overview under Upcoming Events.

PHMSA Public Meeting

The primary purpose of PHMSA's meeting is to prepare for the 53rd session of the UNSCOE TDG. This session represents the third meeting scheduled for the 2017-2018 biennium. UNSCOE will consider proposals for the 21st Revised Edition of the United Nations Recommendations on the Transport of Dangerous Goods (Model Regulations), which may be implemented into relevant domestic, regional, and international regulations from January 1, 2021. Copies of working documents, informal documents, and the meeting agenda may be obtained from the United Nations (UN) Transport Division's website at https://www.unece.org/trans/main/dgdb/dgsubc3/c32018.html.

General topics on the agenda for the UNSCOE TDG meeting include:

• Explosives and related matters;

• Listing, classification, and packing;

• Electric storage systems;

• Transport of gases;

• Global harmonization of regulations on the Transport of Dangerous Goods with the Model Regulations;

• Guiding principles for the Model Regulations;

• Cooperation with the International Atomic Energy Agency;

• New proposals for amendments to the Model Regulations;

• Issues relating to the Globally Harmonized System of Classification and Labelling of Chemicals (GHS); and

• Miscellaneous pending issues.

Following the 53rd session of the UNSCOE TDG, a copy of the Sub-Committee's report will be available at the UN Transport Division's website at http://www.unece.org/trans/main/dgdb/dgsubc3/c3rep.html. Additional information regarding the UNSCOE TDG and related matters can be found on PHMSA's website at https://www.phmsa.dot.gov/international-program/international-program-overview.

OSHA Public Meeting

The Federal Register notice and additional detailed information relating to OSHA's public meeting will be available upon publication at federalregister.gov (Docket No. OSHA-2016-0005). OSHA is hosting the meeting in preparation for the 35th session of the UNSCEGHS. It will provide interested groups and individuals with an update on GHS-related issues, as well as solicit input on the development of U.S. Government positions on proposals submitted to the UNSCEGHS.

Issued at Washington, DC, on May 31, 2018.
William S. Schoonover,
Associate Administrator for Hazardous Materials Safety, Pipeline and Hazardous Materials Safety Administration.

[FR Doc. 2018-12093 Filed 6-5-18; 8:45 am]

BILLING CODE 4910-60-P